COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add products and a service to the Procurement List that will be furnished by nonprofit agencies employing persons who are blind or have other severe disabilities.

Comments Must Be Received on or Before: 8/8/2013.

ADDRESSES: Committee for Purchase From People Who Are Blind or Severely Disabled, 1401 S. Clark Street, Suite 10800, Arlington, Virginia, 22202-4149.

For Further Information or to Submit Comments Contact: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products and service listed below from nonprofit agencies employing persons who are blind or have other severe disabilities.

The following products and service are proposed for addition to the Procurement List for production by the nonprofit agencies listed:

Products

Towel, Hazardous Material Absorbent, Cotton, Red

NSN: 4235-01-526-4342—15” x 15”

NPA: Winston-Salem Industries for the Blind, Inc., Winston-Salem, NC

Contracting Activity: Defense Logistics Agency Aviation, Richmond, VA

Coverage: B-List for the Broad Government Requirement as aggregated by the Defense Logistics Agency Aviation, Richmond, VA.

Power Duster

NSN: 6850-01-517-1506—10 oz. CN

NSN: 6850-01-412-0040—10 oz. 12/BX

Cleaner, Brake Parts

NSN: 6850-01-167-0678—17 oz.

NPA: The Lighthouse for the Blind, St. Louis, MO

Contracting Activity: Defense Logistics Agency Aviation, Richmond,

Coverage: B-List for the Broad Government Requirement as aggregated by the Defense Logistics Agency Aviation, Richmond, VA.

Service

Service Type/Location: Grounds Maintenance Service, USCG, Air Station-Savannah, 1297 N Lightning Rd, Savannah, GA

NPA: Goodwill Industries of the Coastal Empire, Inc., Savannah, GA

Contracting Activity: U.S. Coast Guard, Base Miami, Miami, FL

Barry S. Lineback,
Director, Business Operations.

[FR Doc. 2013-16273 Filed 7-5-13; 8:45 am]

BILLING CODE 6353-01-P